DEPARTMENT OF HOMELAND SECURITY

U.S. Customs and Border Protection

[OMB Control Number 1651-0141]

Agency Information Collection Activities; Revision; Global Business Identifier (GBI)

AGENCY: U.S. Customs and Border Protection (CBP), Department of Homeland Security.

ACTION: 30-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than September 29, 2025) to be assured of consideration.

ADDRESSES: Written comments and/or suggestions regarding the item(s) contained in this notice should be sent within 30 days of publication of this notice to www.reginfo.gov/public/do/PRAMain. Please submit written comments and/or suggestions in English. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (90 FR 22503) on May 28, 2025, allowing for a 60-day comment period. This notice allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Global Business Identifier (GBI).

OMB Number: 1651-0141.

Form Number: N/A.

Current Actions: Revision.

Type of Review: Revision.

Affected Public: Business.

Abstract: In December 2022, U.S. Customs and Border Protection (CBP) launched a Global Business Identifier (GBI) Evaluative Proof of Concept (EPoC), now referred to as the GBI Test, which aims to determine a solution involving one or more identification numbers (identifiers) maintained by 3rd party organizations that will uniquely discern main legal entity and ownership; specific business and global locations; and supply chain roles and functions. While all GBI Test information is completely voluntary and optional, entry filers must signal their intent to participate in the GBI Test, by email as discussed in the Federal Register notice announcing the test and must obtain and submit (or indicate that they are in the process of obtaining) one or more of the GBI identifiers for parties including their shippers, manufacturers, sellers, exporter, distributor, or packager as part of their email. The identifiers provide additional information about trade entities and supply chain locations associated with U.S. imports and are provided to CBP for enrollment into the GBI Test and during the Entry process. CBP is actively working to expand the list of choices and identifiers over the duration of the GBI Test, while this approval will specify the currently available identifiers, CBP will submit non-substantive change requests to the Office of Information and Regulatory Affairs as new identifiers are added to the test so that the information collection request record can be an accurate reflection of available options.

An entry filer interested in becoming a GBI Test participant may provide the following applicant information via email to the GBI Inbox (gbi@cbp.dhs.gov): company/entity legal name, legal entity headquarters and/or manufacturing site address, business phone number (associated with provided address), company website, Manufacture/Shipper Identification Code (MID), Authorized Economic Operator (AEO) identification number, and information about supply chain entities for which they intend to transmit GBIs.

Once programming has been updated as per items listed in the proposed changes below, Automated Broker Interface (ABI) filers (including brokers and importers of record who are not self-filers), participating in the test, will be required to complete a GBI enrollment process, via ABI, prior to submitting the identifiers on an electronic entry (ACE Cargo Release). Filers are responsible for any associated costs to obtain one or more of the identifiers and can submit identifiers for the following supply chain parties:

• Manufacturer/Producer Shipper Seller

• Exporter Distributer Packager

• [New data element] Intermediary [New data element] Source

In addition, a new optional data element consisting of a free text field will be made available for each of the optional parties; it will allow filers to input additional descriptions and information about the specific party type or the underlying entity.

By testing the identifiers, CBP will take its first step in determining whether to amend regulations to mandate the GBI solution. Furthermore, CBP will understand the utility of collecting and/or combining the identifiers' data and will be able to make an informed decision on whether to mandate the use of the GBI solution as an alternative for the Manufacturer/Shipper Identification Code (MID).

Proposed Changes:

U.S. Customs and Border Protection (CBP), Office of Trade (OT) is submitting this PRA update for the changes proposed to enhance supply chain traceability and visibility in response to the growing complexity of global trade. Programming updates are also needed to reflect changes announced via Federal Register (89 FR 9859), published in February 2024, that clarifies the purpose and scope of the test which would include exploring opportunities to enhance supply chain traceability and visibility more broadly. That update also mentioned that the GBI Test would examine how CBP, Partner Government Agencies (PGAs), and the trade industry might leverage GBIs to comply with growing supply chain traceability requirements.

1. The first programming change involves a modification within the Global Business Identifiers (GBI) Enrollment database by allowing the trade to submit one or more of the unique GBI's and Data Universal Numbering System (DUNS)) for a supply chain entity, as opposed to all three as previously approved and announced via the July 21, 2023, Federal Register (88 FR 47154). Originally, the system was programmed to only accept an enrollment when all three global identifiers (LEI, GLN and DUNS) were provided as announced in the December 2022 Federal Register (87 FR 74157). Without this programming change, if all three global identifiers are not provided at enrollment for a specific party, the system will continue to reject the enrollment transaction.

2. After GBI Enrollment is modified to accept one or more identifiers instead of requiring them all, a related programming update will enable trade participants the ability to modify or change a previous enrollment, including updating or adding additional GBI numbers, which may include a variety of global identifier types (LEI, GLN, DUNS). This programming change would provide more flexibility and utility to GBI participants by enabling GBI numbers to be provided voluntarily when they are known and encourages participants to obtain other GBI numbers as well as keep supply chain information current because they can easily add, delete, and modify GBI numbers associated to an enrollment.

3. The GBI Test is also expanding the available GBI supply chain entity party types from the original six optional parties (Manufacturer, Shipper, Seller, Exporter, Distributor, Packager), to include two new parties: “Intermediary” and “Source,” along with optional free text fields for all the parties that will allow filers to voluntarily input additional descriptions and information about the specific party type or the underlying entity. These party types and the free text fields would be made available in the GBI Enrollment database as well as in ACE Cargo Release. Collectively, the updates aim to enhance upstream supply chain traceability and visibility while addressing the increasing complexity of global trade supply chains. All participation and data is voluntary.

4. As a demonstration of CBP's intent to expand the choices of identifiers available to filers over the duration of the Test, CBP is also working to add new voluntary GBI identifiers, beginning with the Altana ID (ALTA) maintained by Altana Technologies USG Inc. (Altana), as announced on August 8, 2025 in the Federal Register (See, 90 FR 38479). At no cost to the government to access the underlying entity and product specific supply chain data associated with an ALTA, this identifier offers comprehensive insights across a product's supply chain, thereby enhancing traceability for CBP which may translate to facilitation benefits and reduced industry costs. CBP has initiated programming requests to create an ALTA GBI field in ACE and to increase the current character limit in ACE allowed for GBI identifiers. The addition of the ALTA identifier alongside the current GBI identifiers will widen participants' choices and allow CBP to continue to evaluate the breadth and veracity of entity and supply chain information embedded within different types of identifier solutions already being leveraged by trade industry traceability stewards. It will also contribute to CBP's ongoing exploration of how traced supply chain information may be ingested and operationalized for risk management and facilitation purposes. CBP proposes adding more participants as the test continues, and with approval from OMB, will add these to the collection through a non-substantive change to the collection.

CBP encourages the trade to comment specifically on whether there are other comparable identifiers that the trade already has, or that it would be advantageous for CBP to include.

Section 484 of the Tariff Act of 1930, as amended (19 U.S. Code 1484) and Part 141, Code of Federal Regulations, Title 19 (19 CFR part 141), pertain to the entry of merchandise and authorize CBP to require information that is necessary for CBP to determine whether merchandise may be released from CBP custody. Provisions of the U.S. Code and CBP regulations, in various parts and related to various types of merchandise, specify information that is required for entry. For reference, Part 163, Code of Federal Regulations, Title 19 (19 CFR part 163 Appendix A) refers to a wide variety of regulatory provisions for certain information that may be required by CBP.

Type of Information Collection: Global Business Identifier (GBI).

Estimated Number of Respondents: 100.

Estimated Number of Annual Responses per Respondent: 1.

Estimated Number of Total Annual Responses: 100.

Estimated Time per Response: 10 minutes.

Estimated Total Annual Burden Hours: 17.

Dated: August 26, 2025.
Seth D. Renkema,
Branch Chief, Economic Impact Analysis Branch, U.S. Customs and Border Protection.

[FR Doc. 2025-16547 Filed 8-27-25; 8:45 am]

BILLING CODE 9111-14-P